DEPARTMENT OF HOMELAND SECURITY

Coast Guard

[USCG-2009-0047]

Commercial Fishing Industry Vessel Safety Advisory Committee; Meeting

AGENCY: Coast Guard, DHS.

ACTION: Notice of meeting.

SUMMARY: The Commercial Fishing Industry Vessel Safety Advisory Committee (CFIVSAC) will meet in Jacksonville, FL to discuss various issues relating to commercial vessel safety in the fishing industry. This meeting will be open to the public.

DATES: The Committee will meet on March 3-5, 2009, from 8 a.m. to 5 p.m. This meeting may close early if all business is finished. Written material and requests to make oral presentations should reach the Coast Guard on or before February 14, 2009. Requests to have a copy of your material distributed to each member of the committee should reach the Coast Guard on or before February 14, 2009.

ADDRESSES: The Committee will meet at the Wyndham Riverwalk Jacksonville: 1515 Prudential Drive Jacksonville, FL 32207. Send written material and requests to make oral presentations to Captain Eric Christensen, Designated Federal Officer (DFO) of CFIVSAC, United States Coast Guard Fishing Vessel Safety Division (CG-5433), 2100 2nd St., SW., Washington, DC 20593. This notice and documents identified in the SUPPLEMENTARY INFORMATION section as being available in the docket may be viewed in our online docket, USCG-2009-0047, at http://www.regulations.gov.

FOR FURTHER INFORMATION CONTACT: Mr. Jack Kemerer, Assistant to DFO of CFIVSAC, by telephone at 202-372-1246, fax 202-372-1917, e-mail: Jack.a.Kemerer@uscg.mil.

SUPPLEMENTARY INFORMATION: Notice of this meeting is given under the Federal Advisory Committee Act, 5 U.S.C. App. (Pub. L. 92-463).

Agenda of Meeting

The agenda for the CFIVSAC meeting is as follows:

(1) Commercial Fishing Vessel Safety District Coordinators updates.

(2) Industry Update.

(3) Status report on the Commercial Fishing Vessel Safety Rulemaking.

(4) Report of ongoing research work and safety related projects by the National Institute for Occupational Safety.

(5) Discussions and working group sessions by the Communications and Risk Management Subcommittees on current program strategies, future plans, and long range goals for CFIVSAC.

Procedural

This meeting is open to the public. Please note the meetings may close early if all business is finished. At the Chair's discretion, members of the public may make presentations during the meeting. If you would like to make an oral presentation at the meeting, please notify the Designated Federal Officer no later than February 14, 2009. Written material for distribution at a meeting should reach the Coast Guard no later than February 14, 2009. If you would like a copy of your material distributed to each member of the committee in advance of the meeting, please submit 25 copies to the DFO no later than February 14, 2009.

Information on Services for Individuals With Disabilities

For information on facilities or services for individuals with disabilities or to request special assistance at the meeting, contact the Designated Federal Officer as soon as possible but no later than May 14, 2008.

Dated: January 28, 2009.
J.G. Lantz,
Director of Commercial Regulations and Standards.

[FR Doc. E9-3157 Filed 2-12-09; 8:45 am]

BILLING CODE 4910-15-P